DEPARTMENT OF HEALTH AND HUMAN SERVICES

Stakeholder Listening Session on Public Health Emergencies Preparedness and Response Negotiations

AGENCY: Office of Global Affairs, Department of Health and Human Services.

ACTION: Notice of public listening session; request for comments.

DATES: The listening session will be held Thursday, April 11, 2024, from 10:00 a.m. to 12:00 p.m. Eastern Daylight Time. This session is open to the public but requires RSVP to oga.rsvp@hhs.gov by Friday, April 5, 2024. See RSVP section in SUPPLEMENTARY INFORMATION for details.

ADDRESSES: The session will be held virtually, with online and dial-in information shared with registered participants.

SUPPLEMENTARY INFORMATION:

Purpose: The U.S. Department of Health and Human Services (HHS), with support from relevant health-related U.S. Government offices, is charged with leading U.S. participation in the Working Group on the Amendments to the International Health Regulations (2005) (WGIHR) and with co-leading the U.S. delegation to the Intergovernmental Negotiating Body to draft and negotiate a WHO convention, agreement or other international instrument on pandemic prevention, preparedness and response (INB). HHS will convene an informal Stakeholder Listening Session.

The Stakeholder Listening Session is designed to seek input from stakeholders and subject matter experts to help inform U.S. Government engagement with the WGIHR and INB.

Background, WGIHR: The World Health Assembly originally adopted the International Health Regulations (IHR) in 1969. The regulations were amended multiple times, most recently in 2005. The purpose of IHR is to prevent, protect against, control, and provide public health response to the international spread of disease.

Member States of the World Health Organization (WHO) agreed in 2022 to embark on a process to amend the current IHR. The process builds on lessons learned from the various review panels that examined the functioning of the IHR and the global health security architecture during the COVID-19 pandemic. The Working Group on the Amendments to the IHR (WGIHR) is considering more than 300 proposed amendments to 33 of the 66 articles of the IHR and 5 of its 9 annexes, plus 6 new articles and 2 new annexes. More information on the WGIHR can be found here: https://www.who.int/teams/ihr/working-group-on-amendments-to-the-international-health-regulations-%282005%29.

The WGIHR currently intends to submit its outcome to the Seventy-seventh World Health Assembly in May 2024.

Background, INB: In December 2021, WHO Member States decided at a Special Session of the World Health Assembly to establish an intergovernmental negotiating body (INB), representing all regions of the world, to draft and negotiate a WHO convention, agreement, or other international instrument on pandemic prevention, preparedness, and response. More information about the INB process can be found here: https://inb.who.int/home/inb-process.

The INB currently intends to submit its outcome to the Seventy-seventh World Health Assembly in May 2024.

The United States has expressed support for the development of an international instrument to protect the world from pandemic health threats now and in the future, and in a more rapid and equitable manner.

The United States is seeking the following key outcomes in the negotiations:

• Enhance the capacity of countries around the world to prevent, prepare for, and respond to pandemic emergencies and provide clear, credible, consistent information to their citizens.

• Ensure that all countries share data and laboratory samples from emerging outbreaks quickly, safely, and transparently to facilitate response efforts and inform public health decision making regarding effective disease control measures, including the rapid creation of safe and effective vaccines, diagnostic tests, and treatments.

• Support more equitable and timely access to, and delivery of, vaccines, diagnostic tests, treatments, and other mitigation measures to quickly contain outbreaks, reduce illness and death, and minimize impacts on the economic and national security of people around the world.

Matters to be Discussed: The listening session will discuss the outcome products of the WGIHR and INB to be submitted to the Seventy-seventh World Health Assembly in May. Topics will include those amendments currently under consideration by the WGIHR; areas of consideration included in the Pandemic Accord; and key proposals that highlight the intersection between the IHR and the Pandemic Accord. An Article-by-Article Compilation of Proposed Amendments to the International Health Regulations (2005) can be found here: https://apps.who.int/gb/wgihr/pdf_files/wgihr1/WGIHR_Compilation-en.pdf. More information on the Pandemic Accord can be found here: https://apps.who.int/gb/inb/index.html.

Participation is welcome from stakeholder communities, including:

• Public health and advocacy groups

• State, local, and Tribal groups

• Private industry

• Minority health organizations

• Academic and scientific organizations, etc.

RSVP: Persons seeking to participate in the listening session must register by Friday, April 5, 2024.

Registrants must include their full name, email address, and organization, if any, and indicate whether they are registering as a listen-only attendee or as a speaker participant to oga.rsvp@hhs.gov.

Requests to participate as a speaker must include all of the following information:

1. The name and email address of the person desiring to participate

2. The organization(s) that person represents, if any

3. The document(s) and primary article(s) of interest, listed in order of the speaker's priorities

Other Information: Written comments should be emailed to oga.rsvp@hhs.gov with the subject line “Written Comment Re: Stakeholder Listening Session on public health emergencies preparedness and response negotiations” by Wednesday, April 17, 2024.

We look forward to your comments on these matters.

Dated: February 22, 2024.
Susan Kim,
Principal Deputy Assistant Secretary.

[FR Doc. 2024-04080 Filed 2-27-24; 8:45 am]

BILLING CODE 4150-38-P